DEPARTMENT OF HEALTH AND HUMAN SERVICES

National Institutes of Health

Submission for OMB Review; Comment Request; Young Drivers Intervention Study

SUMMARY: Under the provisions of section 3507(a)(1)(D) of the Paperwork Reduction Act of 1995, the National Institute of Child Health and Human Development (NICHD), the National Institutes of Health (NIH) has submitted to the Office of Management and Budget (OMB) a request for review and approval of the information collection listed below. This proposed information collection was previously published in the Federal Register on April 5, 2002, pages 16407-16408, and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: Young Drivers Intervention Study, OMB No. 0925-0467. Type of Information Collection Request: Revision. Need and Use of Information Collection: This study will assess the effectiveness of a parent-based education program to increase parental restrictions on newly licensed teens' early driving and to decrease young driver risk. The primary objectives of the study are to determine if parents can be persuaded to increase restrictions on teens' driving under high-risk conditions (e.g., at night and with teen passengers) and to use a parent-teen driving agreement, and to determine if doing so decreases adolescent citations and crashes. The findings will provide valuable information concerning: (1) Whether parental actions to monitor and control the driving behavior of their teenage children reduce the number of motor vehicle crashes and citations; (2) the effectiveness of the use of educational persuasive communications and a parent-teen driving agreement in promoting parental restrictions of adolescents' driving behavior; and (3) the effectiveness of this intervention in reducing motor vehicle crashes among teens. Frequency of Response: 4 or 5 times over two years (i.e., when teens get a learner's permit, when teens get a driver's license, and 3 months, 6 months, and 12 months postlicensure). Affected Public: Teenagers under age 16 years 9 months who get a learner's permit at any of the sites of the Connecticut Department of Motor Vehicles and one of their parents. Type of Respondents: Teenagers and Parents. The annual reporting burden is as follows: Estimated Number of Respondents: 9519; Estimated Number of Responses per Respondents: 1.6522; Average Burden Hours Per Response: .5; and Estimated Total Annual Burden Hours Requested: 7,864. The annualized cost to respondents is estimated at: $78,640 (based on $10 per hour). There are no Capital Costs to report. There are no Operating or Maintenance Costs to report.

Type of respondents | Estimated number of respondents | Estimated number of responses per respondent | Average burden hours per response | Estimated total annual burden hours requested
Teenagers and Parents | 9519 | 1.6522 | .50 | 7864

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Office for NIH. To request more information on the proposed project or to obtain a copy of the data collection plans and instruments, contact Dr. Bruce Simons-Morton, Chief, Prevention Research Branch, DESPR, NICHD, NIH, 6100 Executive Blvd., Rm 7B05, MSC 7510, Bethesda, MD 20892-7510; (301) 493-5674; email: mortonb@mail.nih.gov.

Comments Due Date: Comments regarding this information collection are best assured of having their full effect if received within 30-days of the date of this publication.

Dated: July 26, 2002.
Kathleen Wilburn,
Project Clearance Liaison, NICHD, National Institutes of Health.

[FR Doc. 02-19397 Filed 7-31-02; 8:45 am]

BILLING CODE 4140-01-M